DEPARTMENT OF TRANSPORTATION

Federal Railroad Administration

Environmental Impact Statement for Port Bienville Railroad Project

AGENCY: Federal Railroad Administration (FRA), Department of Transportation (DOT).

ACTION: Notice of Intent (NOI) to prepare an Environmental Impact Statement (EIS).

SUMMARY: The Federal Railroad Administration (FRA) is issuing this NOI to advise the public that the Mississippi Department of Transportation (MDOT) and Hancock County Port and Harbor Commission intend to prepare an Environmental Impact Statement (EIS) pursuant to the National Environmental Policy Act of 1969 (NEPA) to evaluate the impacts of construction and operation of the Port Bienville Railroad Project (Project). The EIS will evaluate route alternatives for freight rail service from the Port Bienville Short Line Railroad in Hancock County, Mississippi to Nicholson in Pearl River County, Mississippi.

DATES: FRA invites the public, governmental agencies, and all other interested parties to comment on the scope of the EIS. All such comments should be provided in writing, within thirty (30) days of the publication of this notice, at the address listed below. Comments may also be provided orally or in writing at the scoping meetings. Once scheduled, scoping meeting dates, times and locations, in addition to information about the EIS for the Port Bienville Railroad Project can be found online https://www.fra.dot.gov/Page/P0214.

ADDRESSES: Written comments on the scope of the EIS may be mailed or emailed within thirty (30) days of the publication of this notice to Melissa Hatcher, Environmental Protection Specialist, Office of Program Delivery, Federal Railroad Administration, 1200 New Jersey Avenue SE., MS-20, Washington, DC 20590 or melissa.hatcher@dot.gov.

FOR FURTHER INFORMATION CONTACT: Melissa Hatcher, Environmental Protection Specialist, Office of Program Delivery, Federal Railroad Administration, 1200 New Jersey Avenue SE., MS-20, Washington, DC 20590, melissa.hatcher@dot.gov, or Kim Thurman, MDOT, Environmental Division, P.O. Box 1850, Jackson, MS 39215-1850, environmentalcomments@mdot.ms.gov.

SUPPLEMENTARY INFORMATION: The EIS will be prepared in accordance with the NEPA and the Council on Environmental Quality (CEQ) regulations for implementing NEPA and FRA's Procedures for Considering Environmental Impacts (64 FR 28545, May 26, 1999) (Environmental Procedures). The EIS will also address section 106 of the National Historic Preservation Act (16 U.S.C. 470(f)), section 4(f) of the Department of Transportation Act of 1966 (49 U.S.C. 303), E.O. 12898 and USDOT Order 5610.2(a) on Environmental Justice, and other applicable Federal and state laws and regulations. The EIS will:

• Present the Purpose and Need for the Proposed Action.

• Identify the reasonable alternatives that satisfy the Purpose and Need for the Proposed Action.

• Establish the no-build or no-action alternative to serve as a baseline for comparison.

• Describe the environment likely to be affected by the Proposed Action.

• Describe the potential environmental impacts associated with the reasonable alternatives and propose mitigation measures to reduce significant impacts.

FRA, in cooperation with MDOT, will prepare an EIS for the Project proposed by MDOT and Hancock County Port and Harbor Commission. The Proposed Action will connect the Port Bienville Short Line Railroad, located at the Port Bienville Industrial Park, Hancock County, with the Norfolk Southern Railroad, located in the vicinity of Nicholson in Pearl River County, to provide the Port with access to dual Class 1 rail service. The Project is composed of approximately 24 miles of new railroad line. Dual Class I rail access is proposed to enable Hancock and Pearl River Counties and Stennis Space Center to attract new industries to this region that require this level of rail services, and encourage job creation and investment opportunities to help this area recover from recent hurricane disasters that have significantly affected local economies.

The Project's new corridor may involve alteration and fill of “Waters of the United States,” as that term is used in the Clean Water Act (33 U.S.C. 1251 et seq.), and thus, the EIS process will involve the U.S. Army Corps of Engineers, which is expected to serve as a cooperating agency. The Project's corridor is expected to cross through the acoustical (noise) buffer zone of NASA's Stennis Space Center.

Project Background

In 2008, the Hancock County Port and Harbor Commission received a $2.7 million grant from the U.S. Department of Commerce's Economic Development Administration to improve the railway at the Port Bienville Industrial Park. In 2013, a Feasibility Report was completed to determine the feasibility of constructing and operating a new rail line to connect the Port Bienville Short Line Railroad with the Norfolk Southern mainline in Nichols. The study included the development of reasonable alternative corridors; identification of the economic benefits and opportunities associated with the Project; and the recommendation as to the feasibility of the Project. Given the business case for dual Class I rail services, the demands of the existing and emerging business clusters in Hancock and Pearl River Counties, the future benefits to Stennis Space Center, the existing industrial land inventory, and the workforce and transportation assets supporting this region, the construction of this new rail line was determined feasible.

The Project would provide existing businesses access to dual Class I rail service, improving transit time and reliability, and enabling Hancock and Pearl River Counties and the Stennis Space Center to attract new industries to the region. By improving the efficiency of goods movement in the area by rail, the Project would also improve regional air quality and reduce truck traffic on area roads and highways.

Scoping and Public Involvement

In accordance with NEPA, the FRA and MDOT invite comments and suggestions regarding the scope of the EIS from all interested parties to ensure that all issues are addressed, all reasonable alternatives are considered, and any significant issues are identified. In particular, FRA is interested in identifying areas of environmental concern where there might be a potential for significant impacts. Public agencies with jurisdiction are requested to advise FRA and MDOT of the applicable permit and environmental review requirements of each agency, and the scope and content of the environmental information that is germane to the agency's statutory responsibilities in connection with the Project. Federal agencies with jurisdiction by law or special expertise with respect to potential environmental issues will be requested to act as a Cooperating Agency in accordance with 40 CFR 1501.16.

In coordination with FRA, MDOT will lead the outreach activities beginning with scoping meetings (dates to be determined). Public involvement initiatives including public meetings, access to a Web site, and outreach will continue throughout the EIS process. Opportunities for public participation will be announced through mailings, notices, advertisements, press releases, and a FRA-hosted EIS Web page, accessible at https://www.fra.dot.gov/Page/P0214. One or more public hearings will be held after the Draft EIS is released and made available for public and agency review. Public notice will be given for the time and place of public hearings.

Comments or questions concerning the Proposed Action and the scope of the EIS are invited from all interested parties and should be directed to the FRA at the address provided above.

Authority: 42 U.S.C. 4321 et seq.

Issued in Washington, DC, on May 26, 2015.
Corey W. Hill,
Director, Office of Program Delivery.

[FR Doc. 2015-13317 Filed 6-1-15; 8:45 am]

BILLING CODE 4910-06-P